DEPARTMENT OF COMMERCE

Economic Development Administration

Notice of Petitions by Producing Firms for Determination of Eligibility To Apply for Trade Adjustment Assistance

AGENCY: Economic Development Administration (EDA), Commerce.

ACTION: To give all interested parties an opportunity to comment.

Petitions have been accepted for filing on the dates indicated from the firms listed below.

List of Petition Action by Trade Adjustment Assistance for Period October 28, 2003—November 21, 2003
Firm name | Address | Date petition accepted | Product
Louis Baldinger & Sons, Inc | 19-02 Steinway Street, Astoria, NY 11105 | 11/03/03 | Custom design lighting fixtures.
Atlas Industries, Inc | 1750 E. State Street, Fremont, OH 43420 | 11/07/03 | Precision machined parts—crankshafts, manifolds, drive shafts, valve bridges, refrigeration and air conditioning plates and covers.
Reynolds & Reynolds Electronics, Inc | 521 E. Fourth Street, Bethlehem, PA 18015 | 11/04/04 | Electronic emergency energy equipment for elevators.
Mullen Industries, Inc | 425 St. Clair Industrial Dr., St. Clair, MO 63077 | 11/14/03 | Safety Valves and controls.
R & D Manufacturing, Inc | 160 S.W. Freeman Ave., Hillsboro, OR 97123 | 11/18/03 | Threaded and non-threaded fasteners for hand tools, exercise equipment and belt loops.
Kelley Manufacturing, Inc | 369 Route 519, Eighty Four, PA 15330 | 11/17/03 | Molds for the glass industry.

The petitions were submitted pursuant to section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.
Dated: November 20, 2003.
Anthony J. Meyer,
Coordinator, Trade Adjustment and Technical Assistance.

[FR Doc. 03-30067 Filed 12-2-03; 8:45 am]

BILLING CODE 3510-24-P